DEPARTMENT OF AGRICULTURE

Forest Service

Lake County Resource Advisory Committee (RAC); Meeting

AGENCY: Forest Service, USDA.

ACTION: Notice of meeting.

SUMMARY: The Lake County Resource Advisory Committee (RAC) will hold a meeting.

DATES: The meeting will be held on March 25, 2002, from 3:00 p.m. to 6:00 p.m.

ADDRESSES: The meeting will be held at the Lake County Board of Supervisor's Chambers at 255 North Forbes Street, Lakeport.

FOR FURTHER INFORMATION CONTACT: Debbie McIntosh, Committee Coordinator, USDA, Mendocino National Forest, Upper Lake Ranger District, 10025 Elk Mountain Road, Upper Lake, CA 95485. (707) 275-2361; e-mail dmcintosh@fs.fed.us.

SUPPLEMENTARY INFORMATION: Agenda items to be covered include: (1) Review and approval of the minutes of the February meeting; (2) apply Criteria to Submitted Proposals; (3) Select Projects that best meet the Evaluation Criteria; (4) Recommend Projects; and (5) Public Comment period. The meeting is open to the public. Public input opportunity will be provided and individuals will have the opportunity to address the Committee at that time.

Dated: March 11, 2002.
Blaine P. Baker,
Designated Federal Officer.

[FR Doc. 02-6579 Filed 3-18-02; 8:45 am]

BILLING CODE 3410-11-M